DEPARTMENT OF LABOR

Employment and Training Administration

[TA-W-38,642]

Global Tex LLC Doing Business as Bates of Maine, Lewiston, MW; Amended Notice of Revised Determination on Reconsideration

In accordance with section 223 of the Trade Act of 1974 (19 U.S.C. 2273), the Department of Labor issued a Notice of Revised Determination on Reconsideration on September 18, 2001, applicable to workers of Global Tex LLC, doing business as Bates of Maine, Lewiston, ME. The notice was published in the Federal Register on October 4, 2001 (66 FR 50687).

At the request of the State agency, the Department reviewed the certification for workers of the subject firm. The workers are engaged in the production of cotton blankets, throws and bedspreads.

New findings show that there was a previous certification, TA-W-33,913, issued on March 25, 1998, for workers of Bates of Maine, Lewiston, Maine who were engaged in employment related to the production of cotton blankets, throws and bedspreads. That certification expired March 25, 2000. To avoid an overlap in worker group coverage, this certification is being amended to change the impact date from January 23, 2000 to March 26, 2000, for workers of the subject firm.

The amended notice applicable to TA-W-38,642 is hereby issued as follows:

All workers of Global Tex LLC, doing business as Bates of Maine, Lewiston, Maine, who became totally or partially separated from employment on or after March 26, 2000, through September 18, 2003, are eligible to apply for adjustment assistance under section 223 of the Trade Act of 1974.

Signed at Washington, DC, this 10th day of October, 2001.
Edward A. Tomchick,
Director, Division of Trade Adjustment Assistance.

[FR Doc. 01-27241 Filed 10-29-01; 8:45 am]

BILLING CODE 4510-30-M